DEPARTMENT OF ENERGY

Federal Energy Regulatory Commission

[Project No. 10934-032]

Sugar River Hydro II, LLC; Notice of Application Accepted for Filing, Soliciting Comments, Protests and Motions To Intervene

Take notice that the following hydroelectric application has been filed with the Commission and is available for public inspection:

a. Type of Proceeding: Extension of License Term.

b. Project No.: P-10934-032.

c. Date Filed: July 17, 2019.

d. Licensee: Sugar River Hydro II, LLC.

e. Name and Location of Project: Sugar River II Hydroelectric Project, located on the Sugar River, in the Town of Newport, Sullivan County, New Hampshire.

f. Filed Pursuant to: Federal Power Act, 16 U.S.C. 791a-825r.

g. Licensee Contact Information: Sugar River Hydro II, LLC, c/o Ronald K DeCola, Managing Partner, 169 Sunapee Street, LLC, Managing Partner, 300 River Road, Suite 110, Manchester, NH 03104; Phone: (603) 289-2738; Email: rkdecola@gmail.com.

h. FERC Contact: Ashish Desai, (202) 502-8370, Ashish.Desai@ferc.gov.

i. Deadline for filing comments, motions to intervene and protests, is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10934-032.

j. Description of Proceeding: Sugar River Hydro II, LLC, licensee for the Sugar River II Hydroelectric Project No. 10934 requests that the Commission extend the 30-year license term for the project by nine years and ten months, from April 30, 2121 to February 28, 2031. The licensee requests the license extension to facilitate a basin-wide relicensing approach with two other projects located on the Sugar River, the Sweetwater and Lower Valley Projects located approximately 15 river miles and 18 river miles downstream of the Sugar River II Project, respectively. In addition, the licensee states that the license extension would allow the licensee to recoup costs associated with rehabilitating and improving the project after a January 2018 ice storm caused damage to the project.

The licensee's request includes letters and email correspondence from the U.S. Fish and Wildlife Service, New Hampshire Fish and Game Department, and New Hampshire Department of Environmental Service, all stating that they do not support extending the license term.

k. This notice is available for review and reproduction at the Commission in the Public Reference Room, Room 2A, 888 First Street NE, Washington, DC 20426. The filing may also be viewed on the Commission's website at http://www.ferc.gov/docs-filing/elibrary.asp. Enter the Docket number (P-10934-032) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions To Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request to extend the license term. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 16, 2019.
Nathaniel J. Davis, Sr.,
Deputy Secretary.

[FR Doc. 2019-18126 Filed 8-21-19; 8:45 am]

BILLING CODE 6717-01-P